DEPARTMENT OF AGRICULTURE

Forest Service

Notice of Availability of the Record of Decision and Approved Land Management Plan Amendments for the Great Basin Region Greater Sage-Grouse Sub-Regions of Idaho and Southwestern Montana; Nevada and Utah

AGENCY: Forest Service, USDA.

ACTION: Notice of availability of the Record of Decision.

SUMMARY: The Forest Service announces the availability of the Record of Decision (ROD) and Approved Land Management Plan (LMP) Amendments for the Great Basin Region Greater Sage-Grouse (GRSG) sub-regions of Idaho and Southwestern Montana, Nevada, and Northeast California, and Utah. Management decisions within the ROD and Approved LMP amendments apply only to National Forest System lands. There were no National Forest System lands involved in this effort in Northeast California. The Regional Foresters signed the ROD on September 16, 2015, which constitutes the final decision of the Forest Service.

ADDRESSES: Copies of the ROD and Approved LMP Amendments are available upon request and are also available for public inspection at the addresses listed in the SUPPLEMENTARY INFORMATION section. Interested persons may also review the ROD and Approved LMP Amendments on the World Wide Web at http://www.fs.usda.gov/r4/.

FOR FURTHER INFORMATION CONTACT: For the Idaho and Southwestern Montana GRSG LMP Amendment contact Robert Mickelsen, Caribou-Targhee National Forest GRSG, Idaho State Liaison, telephone 208-557-5764; address: 1405 Hollipark Drive, Idaho Falls, ID 83401; email: rmickelsen@fs.fed.us.

For the Nevada GRSG LMP Amendment contact Bill Dunkelberger, Forest Supervisor, Humboldt-Toiyabe, telephone: 775-355-5310; address: 1200 Franklin Way, Sparks, NV 89431; email: wadunkelberger@fs.fed.us.

For the Utah GRSG LMP Amendment contact: Ron Rodriguez, Utah State Liaison, telephone: 435-865-3732; address: 1789 North Wedgewood Lane, Cedar City, UT 84721; email: rrodriguez01@fs.fed.us.

Individuals who use telecommunication devices for the deaf (TDD) may call the Federal Information Relay Service (FIRS) at 1-800-877-8339 between 8 a.m. and 8 p.m., Eastern Standard Time, Monday through Friday.

SUPPLEMENTARY INFORMATION: This Record of Decision (ROD) and Approved Land Management Plan (LMP) Amendments for the Great Basin Region Greater Sage-Grouse (GRSG) sub-regions of Idaho and Southwestern Montana, Nevada, and Northeast California, and Utah were developed through a collaborative planning process and incorporate land-use plan level conservation measures into existing Forest Service LMPs to conserve, enhance, and restore GRSG and its habitat by reducing, eliminating, or minimizing threats to GRSG and its habitat. The ROD and Approved LMP Amendments include management direction that limits or eliminates new surface disturbance in GRSG Priority Habitat Management Areas, while minimizing disturbance in GRSG General Habitat Management Areas. In addition to establishing protective land use allocations, the Approved LMP Amendments establish a suite of management provisions, such as the establishment of disturbance limits, GRSG habitat objectives, mitigation requirements, monitoring protocols, and adaptive management triggers and responses, as well as other conservation measures throughout the range. The cumulative effect of these conservation measures is to protect, improve, and restore GRSG habitat across the remaining range of the species in the Great Basin Region and provide greater certainty that Forest Service activities and authorizations in GRSG habitat in the Great Basin Region will lead to conservation of the GRSG and its habitat as well as other sagebrush-steppe associated species in the Region.

The ROD and LMP amendments amend the following Forest Service LMPs:

Sub-region | National Forest System unit | Date of current LMP
Idaho | Boise National Forest | 2003
| Caribou National Forest | 2003
| Curlew National Grassland | 2002
| Challis National Forest | 1987
| Salmon National Forest | 1988
| Sawtooth National Forest | 2003
| Targhee National Forest RMP | 1997
Montana | Beaverhead-Deerlodge National Forest | 2009
Nevada | Humboldt National Forest | 1986
| Toiyabe National Forest | 1986
Utah | Ashley National Forest | 1986
| Dixie National Forest | 1986
| Fishlake National Forest | 1986
| Manti-LaSal National Forest | 1086
| Uinta National Forest | 2003
| Wasatch-Cache National Forest | 2003

The Idaho and Southwestern Montana, Nevada, and Northeast California, and Utah Draft Land Use Plan Amendments (LUPAs)/Draft Environmental Impact Statements (EISs) and Proposed LUPAs/Final EISs included proposed GRSG management direction on Bureau of Land Management (BLM) public lands. However, the BLM completed a separate ROD and Resource Management Plan Amendments under BLM planning authorities. Management decisions within this ROD and Approved LMP Amendments apply only to National Forest System lands. There were no National Forest System lands involved in this effort in Northeast California.

A Notice of Availability for the Great Basin Region GRSG Proposed LMP Amendments/Final EISs for the Idaho and Southwest Montana, Nevada, and Northeast California, Oregon, and Utah sub-regions was published in the Federal Register on May 29, 2015, which initiated a 30-day protest period.

The BLM and Forest Service received 102 timely and valid protest submissions for all the Great Basin Region Proposed LUPAs/Final EISs. After careful consideration of all the issues raised in these protests, the Deputy Chief for the National Forest System concluded the responsible planning team followed all applicable laws, regulations, and policies and considered all relevant resource information and public input in developing the Proposed LMPs/Final EISs. For a full description of the issues raised during the protest period and how they were addressed, please refer to the Protest Resolution Reports for the Idaho and Southwest Montana, Nevada and Northeast California, and Utah Proposed LUPAs/Final EISs. These Reports, which include three Forest Service Proposed LMPs for Idaho and Southwest Montana, Nevada, and Utah, are available at the following Web site: http://www.blm.gov/wo/st/en/prog/planning/planning_overview/protest_resolution/protestreports.html.

The preferred alternatives, as presented in the Draft LUPA/Draft EISs and and further developed in the Proposed LUPAs/Final EISs as the Proposed Plan Amendment, were selected in the ROD as the Approved LMP Amendments with some minor clarifications.

Copies of the Idaho and Southwest Montana GRSG ROD and Approved LMP Amendment are available upon request and are available for public inspection at:

• Boise National Forest Headquarters. Vinnell Way, Boise ID 83709

• Caribou-Targhee National Forest Headquarters, 1405 Hollipark Drive., Idaho Falls, ID 83401

• Salmon-Challis National Forest Headquarters, 1206 South Challis Street, Salmon, ID 83467

• Sawtooth National Forest Headquarters, 2647 Kimberly Road East, Twin Falls, ID 83301-7976

Copies of the Nevada GRSG ROD and Approved LMP amendment are available upon request and are available for public inspection at:

• Humboldt-Toiyabe National Forest Headquarters, 1200 Franklin Way, Sparks, NV 89431

Copies of the Utah GRSG ROD and Approved LMP amendment are available upon request and are available for public inspection at:

• Ashley National Forest Headquarters, 355 North Vernal Ave. Vernal, UT 84078

• Dixie National Forest Headquarters, 1789 North Wedgewood Lane, Cedar City, UT 84721

• Fishlake National Forest Headquarters, 115 East 900 North, Richfield, UT 84701

• Manti-LaSal National Forest Headquarters, 599 West Price River Drive, Price, UT 84501

• Uinta-Wasatch-Cache National Forest Headquarters, 857 West South Jordan Parkway, South Jordan, UT 84099

Dated: September 17, 2015.
Glenn P. Casamassa,
Associate Deputy Chief, National Forest System.

[FR Doc. 2015-24169 Filed 9-22-15; 8:45 am]

BILLING CODE 3411-15-P